ENVIRONMENTAL PROTECTION AGENCY

[EPA-R06-OAR-2010-0774; FRL-9306-4]

Adequacy Status of the Baton Rouge, Louisiana Maintenance Plan 8-Hour Ozone Motor Vehicle Emission Budgets for Transportation Conformity Purposes

AGENCY: Environmental Protection Agency (EPA).

ACTION: Notice of adequacy determination.

SUMMARY: EPA is notifying the public that it has found that the motor vehicle emissions budgets (MVEB) in the Baton Rouge, Louisiana Redesignation Request/Maintenance Plan State Implementation Plan (SIP) revision, submitted on August 31, 2010 and February 14, 2011, by the Louisiana Department of Environmental Quality (LDEQ) are adequate for transportation conformity purposes. As a result of EPA's finding, the Baton Rouge area must use these budgets for future conformity determinations for the 1997 8-hour ozone standard.

DATES: These budgets are effective May 31, 2011.

FOR FURTHER INFORMATION CONTACT: The essential information in this notice will be available at EPA's conformity Web site: http://www.epa.gov/otaq/stateresources/transconf/adequacy.htm. You may also contact Mr. Jeffrey Riley, Air Planning Section (6PD-L), U.S. Environmental Protection Agency, Region 6, 1445 Ross Avenue, Dallas, Texas 75202-2733, telephone (214) 665-8542, E-mail address: Riley.Jeffrey@epa.gov.

SUPPLEMENTARY INFORMATION: Throughout this document “we,” “us,” and “our” refers to EPA. The word “budget(s)” refers to the mobile source emissions budget for volatile organic compounds (VOCs) and the mobile source emissions budget for nitrogen oxides (NOX).

On August 31, 2010, we received a State Implementation Plan (SIP) revision from the Louisiana Department of Environmental Quality (LDEQ). This revision consisted of a Redesignation Request/Maintenance Plan SIP for the Baton Rouge ozone nonattainment area. In response to further EPA communication with LDEQ, we received a technical amendment to the Baton Rouge Redesignation Request/Maintenance Plan SIP from LDEQ on February 14, 2011. This submittal established the motor vehicle emissions budgets (MVEB) for the Baton Rouge area for the year 2022. The MVEB is the amount of emissions allowed in the state implementation plan for on-road motor vehicles; it establishes an emissions ceiling for the regional transportation network. The MVEB is provided in Table 1:

Table 1—Baton Rouge NOX and VOC MVEB
[Summer season tons per day]
| 2022
NOX | 6.96
VOC | 7.55

On March 3, 2011, EPA posted the availability of the Baton Rouge area budget on EPA's Web site, as part of the adequacy process, for the purpose of soliciting public comments. The comment period closed on April 4, 2011, and we received no comments.

Today's notice is simply an announcement of a finding that EPA has already made. EPA Region 6 sent a letter to LDEQ on April 27, 2011, finding that the MVEB in the Baton Rouge Redesignation Request/Maintenance Plan SIP, submitted on August 31, 2010 and February 14, 2011, is adequate and must be used for transportation conformity determinations in the Baton Rouge area. This finding has also been announced on EPA's conformity Web site: http://www.epa.gov/otaq/stateresources/transconf/adequacy.htm.

Transportation conformity is required by section 176(c) of the Clean Air Act. EPA's conformity rule, 40 Code of Federal Regulations (CFR) part 93, requires that transportation plans, programs and projects conform to state air quality implementation plans and establishes the criteria and procedures for determining whether or not they do so. Conformity to a SIP means that transportation activities will not produce new air quality violations, worsen existing violations, or delay timely attainment of the national ambient air quality standards.

The criteria by which EPA determines whether a SIP's MVEB is adequate for transportation conformity purposes are outlined in 40 CFR 93.118(e)(4). We have also described the process for determining the adequacy of submitted SIP budgets in our July 1, 2004, final rulemaking entitled, “Transportation Conformity Rule Amendments for the New 8-hour Ozone and PM2.5 National Ambient Air Quality Standards and Miscellaneous Revisions for Existing Areas; Transportation Conformity Rule Amendments: Response to Court Decision and Additional Rule Changes” (69 FR 40004). Please note that an adequacy review is separate from EPA's completeness review, and it should not be used to prejudge EPA's ultimate approval of the Baton Rouge Redesignation Request/Maintenance Plan SIP revision submittal. Even if EPA finds a budget adequate, the Redesignation Request/Maintenance Plan SIP revision submittal could later be disapproved.

Within 24 months from the effective date of this notice, the transportation partners will need to demonstrate conformity to the new MVEB if the demonstration has not already been made, pursuant to 40 CFR 93.104(e). See, 73 FR 4419 (January 24, 2008).

Authority: 42 U.S.C. 7401 et seq.

Dated: May 6, 2011.
Al Armendariz,
Regional Administrator, Region 6.

[FR Doc. 2011-11944 Filed 5-13-11; 8:45 am]

BILLING CODE 6560-50-P